DEPARTMENT OF THE INTERIOR

Bureau of Land Management

[LLIDC00000.L16400000.BF0000.241A.0; 4500012112]

Notice of Public Meeting, Coeur d'Alene District Resource Advisory Council Meeting; ID

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) will meet as indicated below.

DATES: June 21-22, 2010. On June 21, the meeting will be from 11:30 a.m. to 4:30 p.m. with the public comment period from 3:30 p.m. to 4:30 p.m. On June 22, a field trip will be conducted from 8 a.m. to about 2 p.m. The meeting will be held at the Bureau of Land Management Office, 1 Butte Drive, Cottonwood, Idaho.

FOR FURTHER INFORMATION CONTACT: Stephanie Snook, RAC Coordinator, BLM Coeur d'Alene District, 3815 Schreiber Way, Coeur d'Alene, Idaho 83815 or telephone at (208) 769-5004.

SUPPLEMENTARY INFORMATION: The 15-member RAC advises the Secretary of the Interior, through the Bureau of Land Management, on a variety of planning and management issues associated with public land management in Idaho. On June 21, the agenda topics include: the proposed M3 land exchange; overview of the Clearwater Basin Collaborative; and the proposed designation of the Lower Salmon River under the Wild and Scenic Rivers Act. On June 22, a field trip will be conducted to several sites within the field office area, including the Salmon River and Craig Mountain Wildlife Management Area. Additional agenda topics or changes to the agenda will be announced in local press releases. More information is available at http://www.blm.gov/id/st/en/res/resource_advisory.html.

All meetings are open to the public. The public may present written comments to the RAC in advance of or at the meeting. Each formal RAC meeting will also have time allocated for receiving public comments. Depending on the number of persons wishing to comment and time available, the time for individual oral comments may be limited. Individuals who plan to attend and need special assistance, such as sign language interpretation or other reasonable accommodations, should contact the BLM as provided above.

Dated: May 13, 2010.
Stephanie Snook,
Acting District Manager.

[FR Doc. 2010-12297 Filed 5-20-10; 8:45 am]

BILLING CODE 4310-GG-P